ENVIRONMENTAL PROTECTION AGENCY

40 CFR Part 52

[EPA-R03-OAR-2017-0394; FRL-9970-69-Region 3]

Approval and Promulgation of Air Quality Implementation Plans; Maryland; Direct Final Rule for the Approval of an Alternative Volatile Organic Compound Emission Standard; Withdrawal

AGENCY: Environmental Protection Agency (EPA).

ACTION: Withdrawal of direct final rule.

SUMMARY: Due to adverse comments received, the Environmental Protection Agency (EPA) is withdrawing the August 28, 2017 direct final rule that approved a revision to the Maryland state implementation plan (SIP) to incorporate by reference a Maryland Department of the Environment (MDE) order that establishes an alternative volatile organic compound (VOC) emission standard for National Gypsum Company (NGC) to ensure that it remains a minor VOC source. EPA stated in the direct final rule that if EPA received adverse comments by September 27, 2017, the rule would be withdrawn and not take effect. EPA subsequently received one adverse comment. EPA will address the comment received in a subsequent final action based upon the proposed action also published on August 28, 2017. EPA will not institute a second comment period on this action.

DATES: As of November 17, 2017, the direct final rule published at 82 FR 40715, August 28, 2017, is withdrawn.

FOR FURTHER INFORMATION CONTACT: Gregory Becoat, (215) 814 2036, or by email at becoat.gregory@epa.gov.

SUPPLEMENTARY INFORMATION: On June 24, 2016, MDE submitted a formal revision to the Maryland SIP. The SIP revision consisted of a request to incorporate by reference a MDE departmental order that establishes an alternative VOC emission standard for NGC as it appears in the permit-to-construct conditions issued by MDE in order to ensure that it remains a minor stationary source of VOCs. The alternative VOC emissions limit of 195 pounds per operating day with at least a 99% overall VOC control efficiency will achieve a stringent emissions discharge reduction and is more stringent than any established standard for reasonably available control technology (RACT) for major stationary sources of VOCs in Code of Maryland Regulations (COMAR) 26.11.19. Under COMAR 26.11.06.06E—“Exceptions,” a source may request an exception to a VOC emissions limit from MDE if the source is not subject to new source review (NSR) and if the source is unable to comply with COMAR 26.11.06.06B—“Control of VOC from Installations.” In the direct final rule published on August 28, 2017 (82 FR 40715), EPA stated that if EPA received adverse comments by September 27, 2017, the rule would be withdrawn and not take effect. EPA subsequently received one adverse comment from an anonymous commenter.

As a result of the comment received, EPA is withdrawing the direct final rule approving the revision to the Maryland SIP that incorporates by reference a MDE order establishing a VOC emission standard for NGC.

List of Subjects in 40 CFR Part 52

Environmental protection, Air pollution control, Incorporation by reference, Ozone, Reporting and recordkeeping requirements, Volatile organic compounds.

Dated: October 31, 2017.
Cosmo Servidio,
Regional Administrator, Region III.

Accordingly, the amendment to § 52.1070(d) published on August 28, 2017 (82 FR 40715), which were to become effective November 27, 2017, are withdrawn.

[FR Doc. 2017-24889 Filed 11-16-17; 8:45 am]

BILLING CODE 6560-50-P